DEPARTMENT OF COMMERCE

International Trade Administration

[A-570-891]

Hand Trucks and Certain Parts Thereof From the People's Republic of China: Notice of Amended Final Results of Antidumping Duty Administrative Review Pursuant to Settlement

AGENCY: Enforcement and Compliance, International Trade Administration, Department of Commerce.

DATES: Effective Date: June 16, 2015.

FOR FURTHER INFORMATION CONTACT: Scott Hoefke or Robert James, AD/CVD Operations, Office VI, Enforcement and Compliance, International Trade Administration, U.S. Department of Commerce, 14th Street and Constitution Avenue NW., Washington, DC 20230; telephone: (202) 482-4947 and (202) 482-0649, respectively.

SUPPLEMENTARY INFORMATION:

Background

On July 16, 2012, the Department of Commerce (the Department) published the final results of its administrative review of the antidumping duty order on hand trucks and certain parts thereof from People's Republic of China.¹ The period of review (POR) is December 1, 2009, through November 30, 2010.

¹ See Hand Trucks and Certain Parts Thereof from the People's Republic of China: Final Results of Antidumping Duty Administrative Review, 77 FR 41744 (July 16, 2012) (Final Results).

The administrative review covered New-Tec Integration (Xiamen) Co., Ltd. (New-Tec), an exporter of hand trucks and certain parts thereof from the People's Republic of China to the United States. In the Final Results, the Department assigned to New-Tec a weighted-average dumping margin of 41.49 percent for the 2009-2010 period of review.

Following the publication of the Final Results, Gleason Industrial Products, Inc. and Precision Products, Inc. (collectively, Gleason), domestic interested parties, and Cosco Home and Office Products (Cosco), a U.S. importer, filed lawsuits with the United States Court of International Trade (CIT) challenging various aspects of the Department's final results of administrative review.

The United States, Gleason, and Cosco have entered into an agreement to settle this dispute. Pursuant to the terms of settlement and the stipulation for entry of judgment, the amended final weighted-average dumping margin for New-Tec is 20.89 percent. The Court issued its Order of Judgment by Stipulation on May 29, 2015.²

² See Gleason Industrial Products, Inc. v. United States, Consol. Court No. 12-00234, Doc. No. 114 (May 29, 2015).

Assessment Rates

The Department shall determine, and CBP shall assess, antidumping duties on all appropriate entries covered by this review. The Department intends to issue assessment instructions to CBP within 15 days after the date of publication of these amended final results of review in the Federal Register.

We have calculated importer-specific per-unit antidumping duty assessment rates by aggregating the total amount of dumping calculated for the examined sales of each importer and dividing each of these amounts by the total entered quantity associated with those sales.³ We will instruct CBP to assess antidumping duties on all appropriate entries covered by this review where an importer-specific assessment rate is not zero or de minimis. We will instruct CBP to liquidate without regard to antidumping duties any entries for which the importer-specific assessment rate is zero or de minimis.

³ See Memorandum to: The File “Per-Unit Assessment Calculation for New-Tec Integration (Xiamen) Co., Ltd. (New-Tec) in the Amended Final Results of Admininstrative Review of the Antidumping Order on Hand Trucks and Parts Thereof from the People's Republic of China; 2009-2010” dated concurrently with this notice.

Cash Deposit Requirements

Since the Final Results, the Department completed a subsequent administrative review of, and established a new cash deposit rate for, New-Tec. Therefore, New-Tec's cash deposit rate does not need to be updated as a result of these amended final results. Rather, New-Tec's cash deposit rate will continue to be 0.00 percent, the rate established in that review.⁴

⁴ See Hand Trucks and Certain Parts Thereof From the People's Republic of China: Final Results of Antidumping Duty Administrative Review; 2011-2012, 79 FR 44008 (July 29, 2014).

Notification to Importers

This notice also serves as a final reminder to importers of their responsibility under 19 CFR 351.402(f) to file a certificate regarding the reimbursement of antidumping duties prior to liquidation of the relevant entries during this review period. Failure to comply with this requirement could result in the Secretary's presumption that reimbursement of antidumping duties occurred, and the subsequent assessment of double antidumping duties.

We are issuing this determination and publishing these amended final results and notice in accordance with 19 U.S.C. 1516(e).

Dated: June 9, 2015.
Paul Piquado,
Assistant Secretary for Enforcement and Compliance.

[FR Doc. 2015-14769 Filed 6-15-15; 8:45 am]

BILLING CODE 3510-DS-P